DEPARTMENT OF HOMELAND SECURITY

Federal Emergency Management Agency

[Docket ID FEMA-2011-0011]

Agency Information Collection Activities: Submission for OMB Review; Comment Request, OMB No. 1660-0061; Federal Assistance to Individuals and Households Programs

AGENCY: Federal Emergency Management Agency, DHS.

ACTION: Notice; 30-day notice and request for comments; extension, without change, of a currently approved information collection; OMB No. 1660-0061; FEMA Form 010-0-11 (previously FEMA Form 90-153), Administrative Option Agreement for the Other Needs provision of Individuals and Households Program, (IHP); FEMA Form 010-0-12, Request for Continued Assistance (Application for Continued Temporary Housing Assistance).

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before September 2, 2011.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or e-mail address FEMA-Information-Collections-Management@dhs.gov.

SUPPLEMENTARY INFORMATION:

Collection of Information

Title: Federal Assistance to Individuals and Households Programs.

Type of information collection: Extension, without change, of a currently approved information collection.

OMB Number: 1660-0061.

Form Titles and Numbers: FEMA Form 010-0-11 (previously FEMA Form 90-153), Administrative Option Agreement for the Other Needs provision of Individuals and Households Program, (IHP); FEMA Form 010-0-12, Request for Continued Assistance (Application for Continued Temporary Housing Assistance).

Abstract: The Federal Assistance to Individuals and Households Program (IHP) enhances applicants' ability to request approval of late applications, request continued assistance, and appeal program decisions. Similarly, it allows States to partner with FEMA for delivery of disaster assistance under the “Other Needs” provision of the IHP through Administrative Option Agreements and Administration Plans addressing the level of managerial and resource support necessary.

Affected Public: Individuals or Households; State, Local or Tribal Government.

Estimated Number of Respondents: 321,042.

Frequency of Response: On occasion.

Estimated Average Hour Burden per Respondent: Request for Approval of Late Registration, 45 minutes; Request for Continued Assistance, FEMA Form 010-0-12, 1 hour; Appeal of Program Decision, 45 minutes; Administrative Option Agreement (for the other needs provision of IHP), FEMA Form 010-0-11 (previously FF 90-153), 1 hour; Development of State Administrative Plan for the other needs provision of IHP, 2 hours.

Estimated Total Annual Burden Hours: 500,803 hours.

Estimated Cost: There is no capital, start-up, operation or maintenance cost associated with this collection.

Dated: July 8, 2011.
Lesia M. Banks,
Director, Records Management Division, Mission Support Bureau, Federal Emergency Management Agency, Department of Homeland Security.

[FR Doc. 2011-19541 Filed 8-2-11; 8:45 am]

BILLING CODE 9111-23-P